NEIGHBORHOOD REINVESTMENT CORPORATION

Finance, Budget & Program Committee of the Board of Directors;

Sunshine Act Meeting

DATES: Time and Date: 2 p.m., Thursday, February 23, 2012.

Place: 1325 G Street NW., Suite 800, Boardroom, Washington, DC 20005.

Status: Open.

CONTACT PERSON FOR MORE INFORMATION: Erica Hall, Assistant Corporate Secretary, (202) 220-2376; ehall@nw.org.

Agenda:

I. Call to Order

II. Executive Session

III. Financial Report

IV. NFMC Interest Income Budget

V. Lease Update

VI. Corporate Scorecard & Dashboard

VII. NFMC & EHLP

VIII. Program Updates

IX. Adjournment

Erica Hall,
Assistant Corporate Secretary.

[FR Doc. 2012-4274 Filed 2-21-12; 11:15 am]

BILLING CODE 7570-02-P